ENVIRONMENTAL PROTECTION AGENCY

[EPA-HQ-OPP-2020-0570; FRL-10016-95]

Broflanilide; Receipt of Application for Emergency Exemption, Solicitation of Public Comment

AGENCY: Environmental Protection Agency (EPA).

ACTION: Notice.

SUMMARY: EPA has received a specific exemption request from the Washington State Department of Agriculture to use the pesticide broflanilide (CAS No. 1207727-04-5) to treat an amount of spring wheat seed sufficient to plant up to 206,000 acres to control wireworms. The applicant proposes the use of a new chemical which has not been registered by EPA.

DATES: Comments must be received on or before December 30, 2020.

ADDRESSES: Submit your comments, identified by docket identification (ID) number EPA-HQ-OPP-2020-0570, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Registration Division (7505P), Office of Pesticide Programs, Environmental Protection Agency, 1200 Pennsylvania Ave. NW, Washington, DC 20460-0001; main telephone number: (703) 305-7090; email address: RDFRNotices@epa.gov.

SUPPLEMENTARY INFORMATION: In accordance with the regulations at 40 CFR 166.24(a)(1), EPA is soliciting public comment before making the decision whether or not to grant the exemption.

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide(s) discussed in this document, compared to the general population.

II. What Action is the Agency Taking?

Under section 18 of the Federal Insecticide, Fungicide, and Rodenticide Act (FIFRA) (7 U.S.C. 136p), at the discretion of the EPA Administrator, a Federal or State agency may be exempted from any provision of FIFRA if the EPA Administrator determines that emergency conditions exist which require the exemption. The Washington State Department of Agriculture (WSDA) has requested the EPA Administrator to issue a specific exemption for the use of broflanilide (CAS No. 1207727-04-5) as a seed treatment on spring wheat to control wireworms. Information in accordance with 40 CFR part 166 was submitted as part of this request.

As part of this request, the applicant stated that the currently registered products do not provide adequate control of wireworms, which are having a devastating and severe impact upon wheat fields and growers, especially in the dryland wheat growing counties of eastern Washington. Approximately 1,029 lbs. of the active ingredient broflanilide would be needed for this emergency exemption program. Additional information regarding the critical need for the emergency and the proposed use pattern can be found in the section 18 emergency exemption application request at http://www.regulations.gov, under the docket number EPA-HQ-OPP-2020-0570.

This notice does not constitute a decision by EPA on the application itself. The regulations governing FIFRA section 18 emergency exemptions require publication of a notice of receipt of an application for an emergency exemption if it proposes the use of a new chemical which has not been registered by EPA. Broflanilide is not currently registered.

This notice provides an opportunity for public comment on this application. The Agency will review and consider all comments received during the comment period in determining whether to issue the specific exemption requested by WSDA.

Authority: 7 U.S.C. 136 et seq.

Dated: November 23, 2020.
Marietta Echeverria,
Acting Director, Registration Division, Office of Pesticide Programs.

[FR Doc. 2020-27539 Filed 12-14-20; 8:45 am]

BILLING CODE 6560-50-P